DEPARTMENT OF COMMERCE

Bureau of the Census

Census Advisory Committee on the African American Population

AGENCY: Bureau of the Census, Department of Commerce.

ACTION: Notice of charter renewal.

SUMMARY: The Bureau of the Census (Census Bureau) is giving notice that it has renewed the Census Advisory Committee on the African American Population.

FOR FURTHER INFORMATION CONTACT: Jeri Green, Committee Liaison Officer, Department of Commerce, U.S. Census Bureau, Room 3627, Federal Office Building 3, Washington, DC 20233, telephone (301) 763-2070, TTY (301) 457-2540.

SUPPLEMENTARY INFORMATION: In accordance with the provisions of the Federal Advisory Committee Act, Title 5, United States Code, Appendix 2, and the General Services Administration (GSA) rule on Federal Advisory Committee Management, Title 41, Code of Federal Regulations, Part 101-6, and after consultation with GSA, the Secretary of Commerce has determined that the renewal of the Census Advisory Committee on the African American Population is in the public interest in connection with the performance of duties imposed by law on the Department of Commerce.

The Committee was first established in February 1985 to advise the Director of the U.S. Census Bureau on ways to reduce the differential undercount for all populations in the 1990 census with a particular emphasis and focus on the African American population. Upon meeting the standards set forth in Executive Order 12838, in that its charter is of compelling national interest and that other methods of obtaining public participation have been considered, the Committee was rechartered in the following years to provide input on subsequent decennial censuses: 1987, 1989, 1991, 1994, 1996, 1998, 2000, 2002, and 2004.

The Committee will consist of a Chair, Vice-Chair, and seven other members with a substantial interest in the conduct and outcome of the decennial census, the American Community Survey, and related programs. The Committee includes academicians, community leaders, and appropriate individuals from the public at large.

The Committee will function solely as an advisory body, and in compliance with provisions of the Federal Advisory Committee Act. Copies of the revised charter will be filed with the appropriate Committees of the Congress and with the Library of Congress.

Dated: March 3, 2006.
Charles Louis Kincannon,
Director, Bureau of the Census.

[FR Doc. E6-3255 Filed 3-7-06; 8:45 am]

BILLING CODE 3510-07-P